DEPARTMENT OF AGRICULTURE

Forest Service

Supplement to the Final Environmental Impact Statement for Deadman Creek Ecosystem Management Projects, Colville National Forest, Ferry County, WA

AGENCY: Forest Service.

ACTION: Notice of intent to prepare a supplement to a final environmental impact statement.

SUMMARY: The USDA Forest Service will prepare a supplement to the final environmental impact statement (EIS) for the Deadman Creek Ecosystem Management Projects on the Three Rivers Range District of the Colville National Forest. The draft supplemental EIS will display the original alternatives as described in the final EIS. Specific actions include silviculture treatments that include timber harvest, pre-commercial thinning post and pole removal, post harvest fuels treatments, natural fuels under-burning, site preparation and reforestation, establishment of marten and pileated woodpecker management requirement areas, new road construction, road reconstruction, and road maintenance. The draft supplemental EIS will add to and update the analysis described in the final EIS. The supplemental information includes updated data in all specialist reporting areas. Emphasis areas where considerable changes were made in text and/or data include recreation/visuals, soils, fishery biology, hydrology, transportation, and roadless area analysis. There will be no additional scoping period on this project. There will be a 45 day public review and comment period on the draft supplemental EIS.

ADDRESSES: Send written comments regarding the scope of this supplemental analysis to Rolando Ortegon, Acting Forest Supervisor, Colville National Forest, 765 South Main, Colville, Washington 99114.

FOR FURTHER INFORMATION CONTACT: Tom Pawley, Deadman Creek Ecosystem Management Projects Leader, Three Rivers Ranger District, 255 West 11th, Kettle Falls, Washington 99141, phone (509) 738-7700.

SUPPLEMENTARY INFORMATION: The Notice of Intent to prepare an environmental impact statement (EIS) for this proposed action was originally published in the Federal Register on November 12, 1996. The draft EIS was released February 11, 2000 with the comment period ending April 28, 2000. On March 20, 2001 the Record of decision (ROD) to implement Alternative D (modified) of the Deadman Creek Ecosystem Management Projects was signed. On September 7, 2001, the Colville National Forest Supervisor withdrew the ROD. New supplemental information will be analyzed in this draft supplemental EIS to address issues raised by public and appellants in the appeal of the ROD.

The original key issues will guide the analysis. These issues are the effects of new road construction, and the effects of entry into inventoried roadless areas and other areas with similar characteristics. The supplemental information to be analyzed includes: a better defined purpose and need section; indicators or units of measure for key issues; changes in regulations and requirements regarding threatened, endangered, and sensitive wildlife and fish species, and sensitive plant species, and how that affects the proposed project; the results of additional field work conducted in soils and hydrology; supplemental information on recreation within the project areas; changes in direction regarding Inventories Roadless Areas and other areas lacking classified roads; inclusion of a required Roads Analysis report; and additional cumulative effects in most of the resource areas.

The public is invited to offer suggestions and comments in writing following the release of the draft supplemental EIS. Comments received, including the names and addresses of those who comment, will be considered part of the public record on this proposal and will be available to public inspection. Comments submitted anonymously will be accepted and considered; however, those who submit anonymous comments will not have standing to appeal for subsequent decision under 36 CFR part 215. Additionally, pursuant to 7 CFR 127(d); and any person may request the agency to withhold a submission from the public record by showing how the Freedom of Information (FOIA) permits such confidentiality may be granted in only limited circumstances, such as to protect trade secrets. The Forest Service will inform the requester of the agency's decision regarding the request for confidentiality, and where the request is denied, the agency will return the submission and notify the requester that the comments may be resubmitted with or without name and address within a specified number of days.

The draft supplemental EIS is expected to be filed with the Environmental Protection Agency (EPA) and released for public review June 2003. The comment period on the draft supplemental will be 45 days from the date the EPA publishes the notice of availability in the Federal Register.

The Forest Service believes it is important to give reviewers notice of this early stage of several court rulings related to public participation in the environmental review process. First, reviewers of a draft supplemental EIS must structure their participation in the environmental review of the proposal so that it is meaningful and alerts an agency to the reviewer's position and contentions. Vermont Yankee Nuclear Power Corp v. NRDC, 435 U.S. 509, 553 (1978). Also, environmental objections that could be raised at the draft supplemental EIS stage but that are not raised until after completion of the final supplemental EIS may be waived or dismissed by the courts. City of Angoon v. Hodel, 400 F. Supp. 1334, 1338 (E.D. Wis. 1980). Because of these court rulings, it is very important that those interested in this proposed action participate by the close of the 45-day comment period so that substantive comments and objections are made available to the Forest Service at a time when it can meaningfully consider them and responded to them in the final supplemental EIS.

To assist the Forest Service in identifying and considering issues and concerns on the proposed action, comments on the draft supplemental EIS should be as specific as possible. It is also helpful if comments refer to specific pages or chapters of the draft statement. Comments may also address the adequacy of the draft supplemental EIS or the merits of the alternatives formulated and discussed in the statement. (Reviewers may wish to refer to the council on Environmental Quality Regulations for implementing the procedural provisions of the National Environmental Policy Act at 40 CFR 1503.3 in addressing these points.)

The final supplemental EIS will be completed in September 2003. In the final supplemental EIS, the Forest Service is required to respond to comments and responses received during the comment period that pertain to the environmental consequences discussed in the draft supplemental EIS and applicable laws, regulations, and policies considered in making the decision regarding the Deadman Creek Ecosystem Management Projects. The Responsible Official is the Forest Supervisor of the Colville National Forest. The Responsible Official will determine which alternative best meets the purpose and need of the project and addresses the key issues raised about this project. The decision and rationale will be documented in the Record of Decision. That decision will be subject to Forest Service Appeal Regulations (36 CFR part 215).

Dated: May 22, 2003.
Rolando Ortegon,
Acting Forest Supervisor.

[FR Doc. 03-13787 Filed 6-2-03; 8:45 am]

BILLING CODE 3410-11-M